DEPARTMENT OF THE INTERIOR

U.S. Geological Survey

[USGS-GX11LR000F60100]

Agency Information Collection Activities: Comment Request for the Ferrous Metals Surveys

AGENCY: U.S. Geological Survey (USGS), Interior.

ACTION: Notice of a revision of a currently approved information collection (1028-0068).

SUMMARY: To comply with the Paperwork Reduction Act of 1995 (PRA), we are notifying the public that we have submitted to the Office of Management and Budget (OMB) an information collection request (ICR) for the revision of the currently approved paperwork requirements for the Ferrous Metals Surveys. This collection consists of 17 forms. This notice provides the public and other Federal agencies an opportunity to comment on the nature of this collection which is scheduled to expire on May 31, 2011.

DATES: Please submit your comments on or before June 30, 2011.

ADDRESSES: Please submit written comments on this ICR to the OMB Office of Regulatory Affairs, Attention: Desk Officer for the Department of the Interior via e-mail to oira_docket@omb.eop.gov or fax at 202-395-5806; and reference Information Collection 1028-0068 in the subject line. Please also submit a copy of your comments to Phadrea Ponds, Information Collection Clearance Officer, U.S. Geological Survey, 2150-C Centre Avenue, Fort Collins, CO 80526-8118 (mail); 970-226-9230 (fax); or pondsp@usgs.gov (e-mail); and reference Information Collection 1028-0068 in the subject line.

FOR FURTHER INFORMATION CONTACT: To request additional information about this ICR, contact Carleen Kostick at 703-648-7940 (telephone); ckostick@usgs.gov (e-mail); or by mail at U.S. Geological Survey, 985 National Center, 12201 Sunrise Valley Drive, Reston, VA 20192. To see a copy of the entire ICR submitted to OMB, go to http://www.reginfo.gov (Information Collection Review, Currently under Review).

SUPPLEMENTARY INFORMATION:

I. Abstract

Respondents use these forms to supply the USGS with domestic consumption data of 13 ores, concentrates, metals, and ferroalloys, some of which are considered strategic and critical. This information will be published as chapters in Minerals Yearbook, monthly Mineral Industry Surveys, annual Mineral Commodity Summaries, and special publications, for use by Government agencies, industry, education programs, and the general public.

II. Data

OMB Control Number: 1028-0068.

Form Number: Various (17 forms).

Title: Ferrous Metals Surveys.

Type of Request: Revision of a currently approved collection.

Affected Public: Private sector: U.S. nonfuel minerals producers of ferrous and related metals.

Respondent Obligation: Voluntary.

Frequency of Collection: Monthly and annually.

Estimated Number of Annual Responses: 3,201.

Annual Burden Hours: 1,660 hours. We expect to receive 3,201 annual responses. We estimate an average of 10 minutes to 1 hour per response.

Estimated Reporting and Recordkeeping “Non-Hour Cost” Burden: We have not identified any “non-hour cost” burdens associated with this collection of information.

III. Request for Comments

On February 22, 2011, we published a Federal Register Notice (76 FR 9810) announcing that we would submit this ICR to OMB for approval and soliciting comments. The comment period closed on April 21, 2011. We did not receive any comments in response to that notice.

We again invite comments concerning this ICR on: (a) Whether the proposed collection of information is necessary for the agency to perform its duties, including whether the information is useful; (b) the accuracy of the agency's estimate of the burden of the proposed collection of information; (c) how to enhance the quality, usefulness, and clarity of the information to be collected; and (d) how to minimize the burden on the respondents, including the use of automated collection techniques or other forms of information technology.

Please note that the comments submitted in response to this notice are a matter of public record. Before including your address, phone number, e-mail address, or other personal identifying information in your comment, you should be aware that your entire comment, including your personal identifying information, may be made publicly available at anytime. While you can ask OMB in your comment to withhold your personal identifying information from public review, we cannot guarantee that it will be done.

USGS Information Collection Clearance Officer: Phadrea Ponds 970-226-9445.

Dated: May 23, 2011.
John H. DeYoung, Jr.,
Director, National Minerals Information Center, U.S. Geological Survey.

[FR Doc. 2011-13290 Filed 5-27-11; 8:45 am]

BILLING CODE 4311-AM-P